DEPARTMENT OF TRANSPORTATION

Surface Transportation Board

[STB Docket No. AB-43 (Sub-No. 171X)]

Illinois Central Railroad Company—Abandonment Exemption—in McLean County, IL

On January 16, 2002, Illinois Central Railroad Company (IC) filed with the Surface Transportation Board (Board) a petition under 49 U.S.C. 10502 for exemption from the provisions of 49 U.S.C. 10903 to abandon a line of railroad, known as the Heyworth Spur, extending from milepost 783.42 to the end of the line at milepost 786.5 in Heyworth, McLean County, IL, a distance of approximately 3.08 miles. The line traverses U.S. Postal Service ZIP Code 61745 and includes no stations.¹

¹ The Heyworth Spur is a single-track, stub-ended line that is located within, and in the immediate vicinity of, the village of Heyworth. It extends from the south side of the village through the village to the end of the line, at milepost 786.5, north of the village. The Heyworth Spur forms the northern portion of IC's Clinton-Heyworth branch line, which connects at Clinton with IC's secondary main line between Gilman and Springfield, IL. IC states that Heyworth will remain a station on its Clinton-Heyworth branch after abandonment of the Heyworth Spur.

Based on information in its possession, IC states that the line does not contain federally granted rights-of-way. Any documentation in IC's possession will be made available promptly to those requesting it.

The interest of railroad employees will be protected by Oregon Short Line R. Co.—Abandonment—Goshen, 360 I.C.C. 91 (1979).

By issuance of this notice, the Board is instituting an exemption proceeding pursuant to 49 U.S.C. 10502(b). A final decision will be issued by May 6, 2002.

Any offer of financial assistance (OFA) under 49 CFR 1152.27(b)(2) will be due no later than 10 days after service of a decision granting the petition for exemption. Each OFA must be accompanied by the filing fee, which currently is set at $1,000. See 49 CFR 1002.2(f)(25).

All interested persons should be aware that, following abandonment of rail service and salvage of the line, the line may be suitable for other public use, including interim trail use. Any request for a public use condition under 49 CFR 1152.28 or for trail use/rail banking under 49 CFR 1152.29 will be due no later than February 25, 2002. Each trail use request must be accompanied by a $150 filing fee. See 49 CFR 1002.2(f)(27).

All filings in response to this notice must refer to STB Docket No. AB-43 (Sub-No. 171X) and must be sent to: (1) Surface Transportation Board, Office of the Secretary, Case Control Unit, 1925 K Street, NW., Washington, DC 20423-0001; and (2) Thomas J. Litwiler, Two Prudential Plaza, Suite 3125, 180 North Stetson Avenue, Chicago, IL 60601-6721. Replies to the IC petition are due on or before February 25, 2002.

Persons seeking further information concerning abandonment procedures may contact the Board's Office of Public Services at (202) 565-1592 or refer to the full abandonment or discontinuance regulations at 49 CFR part 1152. Questions concerning environmental issues may be directed to the Board's Section of Environmental Analysis (SEA) at (202) 565-1552. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at “www.stb.dot.gov.”

By the Board, David M. Konschnik, Director, Office of Proceedings.
Decided: January 28, 2002.
Vernon A. Williams,
Secretary.

[FR Doc. 02-2522 Filed 2-4-02; 8:45 am]

BILLING CODE 4915-01-P